DEPARTMENT OF TRANSPORTATION

Federal Aviation Administration

14 CFR Part 39

[Docket No. 2000-NE-42-AD; Amendment 39-14501; AD 2006-05-04]

RIN 2120-AA64

Airworthiness Directives; General Electric Company CF34 Series Turbofan Engines

AGENCY: Federal Aviation Administration (FAA), DOT.

ACTION: Final rule.

SUMMARY: The FAA is superseding an existing airworthiness directive (AD) for General Electric Company (GE) CF34-1A, -3A, -3A1, -3A2, -3B, and -3B1 turbofan engines. That AD currently requires a onetime inspection, and if necessary replacing certain fan disks for electrical arc-out indications. That AD also reduces the life limit of certain fan disks. This AD requires the same actions and adds one disk part number (P/N) and serial number (SN) to the affected fan disks. This AD results from an error in the first part number and serial number listed in Table 1 of the original AD. We are issuing this AD to prevent rupture of the fan disk due to cracks that initiate at an electrical arc-out, which could result in an uncontained failure of the engine.

DATES: This AD becomes effective April 7, 2006. The Director of the Federal Register previously approved the incorporation by reference of certain publications listed in the regulations as of May 31, 2001 (66 FR 27017, May 16, 2001).

ADDRESSES: You can get the service information identified in this AD from GE Aircraft Engines, 1000 Western Avenue, Lynn, MA 01910; Attention: CF34 Product Support Engineering, Mail Zone: 34017; telephone (781) 594-6323; fax (781) 594-0600.

You may examine the AD docket at the FAA, New England Region, Office of the Regional Counsel, 12 New England Executive Park, Burlington, MA. You may examine the service information, at the FAA, New England Region, Office of the Regional Counsel, 12 New England Executive Park, Burlington, MA.

FOR FURTHER INFORMATION CONTACT: Eugene Triozzi, Aerospace Engineer, Engine Certification Office, FAA, Engine and Propeller Directorate, 12 New England Executive Park, Burlington, MA 01803-5299; telephone 781-238-7148; fax 781-238-7199.

SUPPLEMENTARY INFORMATION: The FAA proposed to amend 14 CFR part 39 with a proposed airworthiness directive (AD). The proposed AD applies to GE CF34-1A, -3A, -3A1, -3A2, -3B, and -3B1 turbofan engines. We published the proposed AD in the Federal Register on August 23, 2005 (70 FR 49215). That action proposed to require the same actions as AD 2001-10-03, and add one disk P/N and SN to the affected fan disks.

Examining the AD Docket

You may examine the AD Docket (including any comments and service information), by appointment, between 8 a.m. and 4:30 p.m., Monday through Friday, except Federal holidays. See ADDRESSES for the location.

Comments

We provided the public the opportunity to participate in the development of this AD. We received no comments on the proposal or on the determination of the cost to the public.

Conclusion

We have carefully reviewed the available data and determined that air safety and the public interest require adopting the AD as proposed.

Costs of Compliance

We estimate that one GE CF34-1A, -3A, -3A1, -3A2, -3B, and -3B1 turbofan engine of U.S. registry would be affected by this AD. We also estimate that it will take approximately six work hours per engine to perform the actions, and that the average labor rate is $65 per work hour. Required parts will cost approximately $140,000 per engine. Based on these figures, we estimate the total cost of the AD to U.S. operators to be $140,390.

Special Flight Permits Paragraph Removed

Paragraph (f) of the current AD, AD 2001-10-03, contains a paragraph pertaining to special flight permits. Even though this final rule does not contain a similar paragraph, we have made no changes with regard to the use of special flight permits to operate the airplane to a repair facility to do the work required by this AD. In July 2002, we published a new part 39 that contains a general authority regarding special flight permits and airworthiness directives; see Docket No. FAA-2004-8460, Amendment 39-9474 (69 FR 47998, July 22, 2002). Thus, when we now supersede ADs we will not include a specific paragraph on special flight permits unless we want to limit the use of that general authority granted in section 39.23.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2000-NE-42-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12229 (66 FR 27017, May 16, 2001) and by adding a new airworthiness directive, Amendment 39-14501, to read as follows:

2006-05-04 General Electric Company: Amendment 39-14501. Docket No. 2000-NE-42-AD.

Effective Date

(a) This AD becomes effective April 7, 2006.

Affected ADs

(b) This AD supersedes AD 2001-10-03.

Applicability

(c) This AD applies to General Electric Company (GE) CF34-1A, -3A, -3A1, -3A2, -3B, and -3B1 turbofan engines. These engines are installed on, but not limited to, Bombardier, Inc. Canadair airplane models CL-600-2A12, -2B16, and -2B19.

Unsafe Condition

(d) This AD results from an error in the first part number (P/N) and serial number (SN) listed in Table 1 of the original AD. We are issuing this AD to prevent rupture of the fan disk due to cracks that initiate at an electrical arc-out, which could result in an uncontained failure of the engine.

(e) You are responsible for having the actions required by this AD performed within the compliance times specified unless the actions have already been done.

Removal of Certain Fan Disks From Service

(f) On disk P/Ns 5921T18G01, 5921T18G09, 5921T18G10, 5921T54G01, 5922T01G02, 5922T01G04, 5922T01G05, 6020T62G04, 6020T62G05, 6078T00G01, 6078T57G01, 6078T57G02, 6078T57G03, 6078T57G04, 6078T57G05, and 6078T57G06, that are listed by P/N and SN in the following Table 1 of this AD and that have fewer than 8,000 cycles-since-new (CSN) on the effective date of this AD, replace fan disk P/Ns before accumulating 8,000 CSN:

Table 1.—Fan Disks That Require Removal Based on Blended Callouts
Disk part No. | Disk serial No.
6078T57G02 | GAT6306N
6078T00G01 | GAT3860G
6078T57G02 | GAT1924L
5922T01G04 | GAT9599G
6078T57G04 | GEE05831
6078T57G04 | GEE06612
6078T57G04 | GEE06618
6078T57G04 | GEE06974
6078T57G04 | GEE06980
6078T57G05 | GEE143FY
6078T57G05 | GEE1453G
6078T57G05 | GEE14452
6078T57G05 | GEE145NA
6078T57G04 | GEE08086
6078T57G04 | GEE09287
6078T57G04 | GEE09337
6078T57G05 | GEE12720
6078T57G05 | GEE14214
6078T57G05 | GEE142YT
6078T57G05 | GEE146GT

(g) For disks with SNs listed in Table 1 of this AD that have 8,000 CSN or more on the effective date of this AD, replace the disk within 30 days after the effective date of this AD.

Inspection of All Other Fan Disks

(h) Inspect all other fan disks, P/Ns 5921T18G01, 5921T18G09, 5921T18G10, 5921T54G01, 5922T01G02, 5922T01G04, 5922T01G05, 6020T62G04, 6020T62G05, 6078T00G01, 6078T57G01, 6078T57G02, 6078T57G03, 6078T57G04, 6078T57G05, and 6078T57G06 in accordance with paragraphs 3.A.(1) through 3.E.(2) of the Accomplishment Instructions of GE Alert Service Bulletin (ASB) CF34-BJ 72-A0088, Revision 1, dated October 30, 2000 or paragraphs 3.A.(1) through 3.A.(2)(f) of the Accomplishment Instructions of GE ASB CF34-AL 72-A0103, dated August 4, 2000. Use the compliance times specified in the following Table 2:

Table 2.—Fan Disk Inspection Compliance Times
Fan disk operating CSN | Inspect
(1) Fewer than 8,000 CSN on effective date of this AD | Before accumulating 8,000 CSN or by the next hot section inspection after the effective date of this AD, whichever the occurs earlier.
(2) 8,000 CSN or more on the effective date of this AD | Within 120 days after the effective date of this AD.

Definitions

(i) For the purposes of this AD, the following definitions apply:

(1) A serviceable fan disk is defined as a fan disk that has been inspected as specified in paragraph (h) of this AD and is not listed in Table 1 of this AD.

(2) Cycles-since-new for fan disk P/N 5922T01G04 or 5922T01G05 is defined as total cycles accrued since new as P/N 6078T57G02 or 6078T57G03, added to total cycles accrued after modification from P/N 6078T57G02 or 6078T57G03.

Alternative Methods of Compliance

(j) The Manager, Engine Certification Office, has the authority to approve alternative methods of compliance for this AD if requested using the procedures found in 14 CFR 39.19.

Related Information

(k) None.

Material Incorporated by Reference

(l) You must use the General Electric Alert Service Bulletins listed in Table 3 of this AD to perform the inspections required by this AD. The Director of the Federal Register previously approved the incorporation by reference of the documents listed in Table 3 of this AD as of May 31, 2001 (66 FR 27017, May 16, 2001) in accordance with 5 U.S.C. 552(a) and 1 CFR part 51. You can get a copy from GE Aircraft Engines, 1000 Western Avenue, Lynn, MA 01910; Attention: CF34 Product Support Engineering, Mail Zone: 34017; telephone (781) 594-6323; fax (781) 594-0600. You can review copies at the FAA, New England Region, Office of the Regional Counsel, 12 New England Executive Park, Burlington, MA; or at the National Archives and Records Administration (NARA). For information on the availability of this material at NARA, call 202-741-6030, or go to: http://www.archives.gov/federal-register/cfr/ibr-locations.html.

Table 3.—Incorporation by Reference
Alert Service Bulletin No. | Page No. | Revision | Date
CF34-BJ 72-A0088 | All | 1 | October 30, 2000.
Total Pages: 15
CF34-AL 72-A0103 | All | Original | August 4, 2000.
Total Pages: 78

Issued in Burlington, Massachusetts, on February 24, 2006.
Peter A. White,
Acting Manager, Engine and Propeller Directorate, Aircraft Certification Service.

[FR Doc. 06-1958 Filed 3-2-06; 8:45 am]

BILLING CODE 4910-13-P